DEPARTMENT OF DEFENSE

Department of the Navy

[USN-2007-0033]

Privacy Act of 1974; System of Records

AGENCY: Department of the Navy, DoD.

ACTION: Notice to amend a system of records.

SUMMARY: The Department of the Navy is amending a system of records notice in its existing inventory of record systems subject to the Privacy Act of 1974, (5 U.S.C. 552a), as amended.

DATES: This proposed action will be effective without further notice on June 28, 2007 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 52a), as amended, which requires the submission of a new or altered system report.

Dated: May 22, 2007.
L.M. Bynum,
Alternate OSD Federal Register Liaison Officer, Department of Defense.

NM07320-1

System name:

Property Accountability Records (May 31, 2006, 71 FR 30894).

Changes:

* * * * *

System location:

At end of first para delete http://neds.daps.dla.mil/sndl.htm” and replace with “http://doni.daps.dla.mil/sndl.aspx.”

* * * * *

Purpose(s):

Delete entry and replace with “To identify individuals to whom government property has been issued and provide a record of loss or deterioration of clothing and equipment assigned to each individual.”

* * * * *

Storage:

Delete entry and replace with “Paper records in file folders and electronic media.”

* * * * *

Retention and disposal:

Delete entry and replace with “Property accounting records are destroyed when two years old. Custody receipts are destroyed when material or equipment is destroyed or individual is separated.”

System manager(s) and address:

Delete entry and replace with “Command officer of the activity in question. Official mailing addresses are published in the Standard Navy Distribution List (SNDL) that is available at http://don.daps.dla.mil/sndl.aspx.”

Notification procedure:

Delete first para and replace with “Individuals seeking to determine whether system records contain information pertaining to them may do so by making application to the commanding officer or officer in charge of the activity where the receipts are located. Individuals making applications must have an identification card. Official mailing addresses are published in the Standard Navy Distribution List (SNDL) that is available at http://doni.daps.dla.mil/sndl.aspx.”

Record access procedures:

Delete first para and replace with “Individuals seeking access to information about themselves contained in this system should address written inquiries to the commanding officer or officer in charge of the activity where the receipts are located. Individuals making application must have an identification card. Official mailing addresses are published in the Standard Navy Distribution List (SNDL that is available at http://doni.daps.dla.mil/sndl.aspx.”

Record source categories:

Delete entry and replace with “Individual and command reports.”

* * * * *

NM07320-1

System Name:

Property Accountability Records

System location:

Organizational elements of the Department of the Navy. Official mailing addresses are published in the Standard Navy Distribution List (SNDL) that is available at http://doni.daps.dla.mil/sndl.aspx.

Commander, U.S. Joint Forces Command, 1562 Mitscher Avenue, Suite 200, Norfolk, VA 23551-2488.

Commander, U.S. Pacific Command, P.O. Box 64028, Camp H.M. Smith, HI 96861-4028.

Categories of individuals covered by the system:

Any individual who receives and signs for government property.

Categories of records in the system:

The receipts maintained are any of the following: Logbooks, property passes, custody chits, charge tickets, sign out cards, tool tickets, sign out forms, photographs, charge cards, or any other statement of individual accountability for receipt of government property.

Authority for maintenance of the system:

10 U.S.C. 5013, Secretary of the Navy; 10 U.S.C. 5041, Headquarters, Marine Corps; and E.O. 9397 (SSN).

Purpose(s):

To identify individuals to whom government property has been issued and provide a record of loss or deterioration of clothing and equipment assigned to each individual.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” that appear at the beginning of the Navy's compilation of systems of records notices apply to this system.

Policies and practices for storing, retrieving, accessing, retaining, and disposing of records in the system:

Storage:

Paper records in file folders and electronic media.

Retrievability:

Individual's name, Social Security Number (SSN), badge number, tool number, property serial number, or any other locally determined method of property receipt accountability.

Safeguards:

Access is limited and provided on a need-to-know basis only. Computerized data bases are password protected.

Retention and disposal:

Property accounting records are destroyed when two years old. Custody receipts are destroyed when material or equipment is destroyed or individual is separated.

System manager(s) and address:

Commanding officer of the activity in question. Official mailing addresses are published in the Standard Navy Distribution List (SNDL) that is available at http://doni.daps.dla.mil/sndl.aspx.

Notification procedure:

Individuals seeking to determine whether system records contain information pertaining to them may do so by making application to the commanding officer or officer in charge of the activity where the receipts are located. Individuals making applications must have an identification card. Official mailing addresses are published in the Standard Navy Distribution List (SNDL) that is available at http://doni.daps.dla.mil/sndl.aspx.”

Written requests must contain individual's name, Social Security Number (SSN), and signed.

Record access procedures:

Individuals seeking access to information about themselves contained in this system should address written inquiries to the commanding officer or officer in charge of the activity where the receipts are located. Individuals making application must have an identification card. Official mailing addresses are published in the Standard Navy Distribution List (SNDL that is available at http://doni.daps.dla.mil/sndl.aspx.

Written request must contain individual's name, Social Security number (SSN), and signed.

Contesting record procedures:

The Navy's rules for accessing records, and for contesting contents and appealing initial agency determinations are published in Secretary of the Navy Instruction 5211.5; 32 CFR part 701; or may be obtained from the system manager.

Record source categories:

Individual and command reports.

Exemptions claimed for the system.

None.

[FR Doc. 07-2640 Filed 5-25-07; 8:45 am]

BILLING CODE 5001-06-M